DEPARTMENT OF COMMERCE

International Trade Administration

[A-580-897]

Large Diameter Welded Pipe From the Republic of Korea: Final Results of Antidumping Duty Administrative Review; 2018-2020

AGENCY: Enforcement and Compliance, International Trade Administration, Department of Commerce.

SUMMARY: The Department of Commerce (Commerce) determines that the producers or exporters subject to this administrative review did not make sales of large diameter welded pipe from the Republic of Korea in the United States at prices below normal value (NV) during the period of review (POR), August 27, 2018, through April 30, 2020.

DATES: Applicable December 3, 2021.

FOR FURTHER INFORMATION CONTACT: Sergio Balbontin or Katherine Johnson, AD/CVD Operations, Office VIII, Enforcement and Compliance, International Trade Administration, U.S. Department of Commerce, 1401 Constitution Avenue NW, Washington, DC 20230; telephone: (202) 482-6478 or (202) 482-4929, respectively.

SUPPLEMENTARY INFORMATION:

Background

On July 30, 2021, Commerce published the preliminary results of this administrative review.¹ The review covers 20 producers or exporters of subject merchandise. We invited interested parties to comment on the Preliminary Results. A summary of the events that occurred since Commerce published the Preliminary Results, as well as a full discussion of the issues raised by parties for these final results, are discussed in the Issues and Decision Memorandum.² Commerce conducted this review in accordance with section 751(a) of the Tariff Act of 1930, as amended (the Act).

¹ See Large Diameter Welded Pipe from the Republic of Korea: Preliminary Results of Antidumping Duty Administrative Review; 2018—2020, 86 FR 41010 (July 30, 2021) (Preliminary Results), and accompanying Preliminary Decision Memorandum (PDM).

² See Memorandum, “Issues and Decision Memorandum for the Final Results in the 2018-2020 Antidumping Duty Administrative Review: Diameter Welded Pipe from the Republic of Korea,” dated concurrently with, and hereby adopted by, this notice (Issues and Decision Memorandum).

Scope of the Order ³

³ See Large Diameter Welded Pipe from the Republic of Korea: Amended Final Affirmative Antidumping Determinations and Antidumping Duty Orders, 84 FR 18767 (May 2, 2019) (Order); see also Large Diameter Welded Pipe from the Republic of Korea: Final Results of Antidumping Duty and Countervailing Duty Changed Circumstances Reviews, 85 FR 51679 (August 21, 2020).

The merchandise covered by the Order is welded carbon and alloy steel pipe (other than stainless steel pipe), more than 406.4 mm (16 inches) in nominal outside diameter (large diameter welded pipe), regardless of wall thickness, length, surface finish, grade, end finish, or stenciling. Imports of the product are currently classifiable in the Harmonized Tariff Schedule of the United States (HTSUS) under subheadings 7305.11.1030, 7305.11.1060, 7305.11.5000, 7305.12.1030, 7305.12.1060, 7305.12.5000, 7305.19.1030, 7305.19.1060, 7305.19.5000, 7305.31.4000, 7305.31.6090, 7305.39.1000 and 7305.39.5000. While the HTSUS subheadings are provided for convenience and customs purposes, the written description of the scope of this order is dispositive. For a complete description of the scope of the Order, see the Issues and Decision Memorandum.

Analysis of Comments Received

All issues raised in the parties' case and rebuttal briefs are addressed in the Issues and Decision Memorandum and are listed in Appendix I to this notice.⁴ The Issues and Decision Memorandum is a public document and is on-file electronically via Enforcement and Compliance's Antidumping and Countervailing Duty Centralized Electronic Service System (ACCESS). ACCESS is available to registered users at https://access.trade.gov. In addition, a complete version of the Issues and Decision Memorandum can be accessed directly at http://access.trade.gov/public/FRNoticesListLayout.aspx.

⁴ See Appendix I.

Changes Since the Preliminary Results

Based on the comments received from interested parties and record information, we made no changes to our preliminary weighted-average dumping margin calculations for Hyundai RB Co., Ltd. (Hyundai RB) and Hyundai Steel Company (Hyundai Steel).

Rate for Non-Examined Respondents

The statute and Commerce's regulations do not address the establishment of a weighted-average dumping margin to be determined for companies not selected for individual examination when Commerce limits its examination in an administrative review pursuant to section 777A(c)(2) of the Act. Generally, Commerce looks to section 735(c)(5) of the Act, which provides instructions for calculating the all-others rate in an investigation, for guidance when determining the weighted-average dumping margin for companies which were not selected for individual examination in an administrative review. Under section 735(c)(5)(A) of the Act, the all-others rate is normally “an amount equal to the weighted average of the estimated weighted average dumping margins established for exporters and producers individually investigated, excluding any zero and de minimis margins, and any margins determined entirely {on the basis of facts available}.”

In this review, we calculated a weighted-average dumping margin for each of the mandatory respondents, Hyundai RB, and Hyundai Steel, that is zero percent. Where the rates for the individually examined companies are all zero, de minimis, or determined entirely using facts available, section 735(c)(5)(B) of the Act instructs that Commerce “may use any reasonable method to establish the estimated all-others rate for exporters and producers not individually investigated, including averaging the estimated weighted average dumping margins determined for the exporters and producers individually investigated.” One such reasonable method is to weight average the zero and de minimis rates, and the rates determined entirely pursuant to facts available. In fact, the SAA states that this is the “expected” method in such circumstances.⁵ Accordingly, we have determined the weighted-average dumping margin for the eighteen companies that were not selected for individual examination based on the weighted average of the weighted-average dumping margins calculated for Hyundai RB and Hyundai Steel, i.e., zero percent, consistent with section 735(c)(5)(B) of the Act. These are the only rates determined in this review for individually examined companies, and, thus, are applied to the eighteen firms not selected for individual examination.

⁵ See Statement of Administrative Action Accompanying the Uruguay Round Agreements Act, H.R. Doc. 103-316, vol. 1 (1994) (SAA) at 873.

Final Results of the Review

As a result of this review, we determine the following weighted-average dumping margins exist for the POR:

Exporter or producer | Weighted- average dumping margin (percent)
Hyundai RB Co., Ltd | 0.00
Hyundai Steel Company | 0.00
Non-Examined Companies ⁶ | 0.00

Disclosure

⁶ See Appendix II.

Normally, Commerce discloses to the parties in a proceeding the calculations that it performed in connection with the final results of review in accordance with 19 CFR 351.224(b). However, because we made no changes to our preliminary weighted-average dumping margin calculations for Hyundai RB and Hyundai Steel, there are no calculations to disclose.

Assessment Rates

Commerce has determined, and U.S. Customs and Border Protection (CBP) shall assess, antidumping duties on all appropriate entries of subject merchandise in accordance with these final results of review.⁷ Because the weighted-average dumping margin for the companies listed above is zero percent, we intend to instruct CBP to liquidate the appropriate entries without regard to antidumping duties.⁸

⁷ See 19 CFR 351.212(b).

⁸ See Antidumping Proceedings: Calculation of the Weighted-Average Dumping Margin and Assessment Rate in Certain Antidumping Proceedings: Final Modification, 77 FR 8101, 8102 (February 14, 2012).

Commerce's “reseller policy” will apply to entries of subject merchandise during the POR produced by Hyundai Steel or Hyundai RB for which these companies did not know that the merchandise that they sold to an intermediary company (e.g., a reseller, trading company, or exporter) was destined for the United States. In such instances, we will instruct CBP to liquidate the unreviewed entries at the all-others rate if there is no rate for the intermediate company(ies) involved in the transaction.⁹

⁹ For a full discussion of this practice, see Antidumping and Countervailing Duty Proceedings: Assessment of Antidumping Duties, 68 FR 23954 (May 6, 2003).

Commerce intends to issue assessment instructions to CBP no earlier than 35 days after the date of publication of the final results of this review in the Federal Register. If a timely summons is filed at the U.S. Court of International Trade, the assessment instructions will direct CBP not to liquidate relevant entries until the time for parties to file a request for a statutory injunction has expired (i.e., within 90 days of publication).

Cash Deposit Requirements

The following deposit requirements will be effective for all shipments of the subject merchandise entered, or withdrawn from warehouse, for consumption on or after the publication date of the final results of this administrative review, as provided by section 751(a)(2)(C) of the Act: (1) The cash deposit rate for the companies listed above in the final results of this review will be equal to the weighted-average dumping margin established in the final results of this administrative review (i.e., zero percent); (2) for previously investigated or reviewed companies not subject to this review, the cash deposit rate will continue to be the company-specific rate published for the most recently completed segment of this proceeding in which the company participated; (3) if the exporter is not a firm covered in this review, a prior review, or the original less-than-fair-value (LTFV) investigation, but the producer is, the cash deposit rate will be the rate established for the most recently completed segment of the proceeding for the producer of the merchandise; and (4) the cash deposit rate for all other producers and exporters will continue to be 7.08 percent ad valorem, the all-others rate established in the LTFV investigation.¹⁰ These cash deposit requirements, when imposed, shall remain in effect until further notice.

¹⁰ See Order.

Notification to Importers Regarding the Reimbursement of Duties

This notice also serves as a final reminder to importers of their responsibility under 19 CFR 351.402(f)(2) to file a certificate regarding the reimbursement of antidumping duties prior to liquidation of the relevant entries during the POR. Failure to comply with this requirement could result in Commerce's presumption that reimbursement of antidumping duties occurred and the subsequent assessment of double antidumping duties.

Notification Regarding Administrative Protective Order

This notice also serves as a reminder to parties subject to administrative protective order (APO) of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and the terms of an APO is a sanctionable violation.

Notification to Interested Parties

We are issuing and publishing this notice in accordance with sections 751(a)(1) and 777(i)(1) of the Act, and 19 CFR 351.221(b)(5).

Dated: November 29, 2021.
Ryan Majerus,
Deputy Assistant Secretary for Policy and Negotiations, performing the non-exclusive functions and duties of the Assistant Secretary for Enforcement and Compliance.

Appendix I

List of Topics Discussed in the Issues and Decision Memorandum

I. Summary

II. Background

III. Scope of the Order

IV. Discussion of the Issues

Comment 1: Whether Commerce Should Find a Cost-Based Particular Market Situation in Korea

Comment 2: Voluntary Respondent Status for SeAH Steel Corporation

V. Recommendation

Appendix II

Companies Not Selected for Individual Examination

1. AJU Besteel Co., Ltd.

2. Chang Won Bending Co., Ltd.

3. Daiduck Piping Co., Ltd.

4. Dong Yang Steel Pipe Co., Ltd.

5. Dongbu Incheon Steel Co., Ltd.

6. EEW KHPC Co., Ltd.

7. EEW Korea Co., Ltd.

8. Histeel Co., Ltd.

9. Husteel Co., Ltd.

10. Kiduck Industries Co., Ltd.

11. Kum Kang Kind. Co., Ltd.

12. Kumsoo Connecting Co., Ltd.

13. Nexteel Co., Ltd.

14. SeAH Steel Corporation

15. Seonghwa Industrial Co., Ltd.

16. SIN-E B&P Co., Ltd.

17. Steel Flower Co., Ltd.

18. WELTECH Co., Ltd.

[FR Doc. 2021-26292 Filed 12-2-21; 8:45 am]

BILLING CODE 3510-DS-P